DEPARTMENT OF HOMELAND SECURITY

[Docket No. CISA-2025-0001]

Agency Information Collection Activities; Submission to the Office of Management and Budget for Review and Approval; Comment Request; Speaker Request Form

AGENCY: Cybersecurity and Infrastructure Security Agency (CISA), Department of Homeland Security (DHS).

ACTION: 30-Day notice of information collection; request for comment; this is a extension of a previously approved information collection (1670-0047).

SUMMARY: The Office of the Chief External Affairs Officer (EA) within Cybersecurity and Infrastructure Security Agency (CISA) submits the following information collection request (ICR) to the Office of Management and Budget (OMB) for review and clearance. CISA previously published this information collection request (ICR) in the Federal Register on May 29, 2025 for a 60-day public comment period. Zero comments were received by CISA. The purpose of this notice is to allow additional 30-days for public comments.

DATES: Comments are encouraged and will be accepted until September 19, 2025. Submissions received after the deadline for receiving comments may not be considered.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: Ken Bradley, 202-380-5309, Kenneth.Bradley@mail.cisa.dhs.gov.

SUPPLEMENTARY INFORMATION: The Cybersecurity and Infrastructure Security Agency Act of 2018 (Pub. L. 115-278) created the Cybersecurity and Infrastructure Security Agency (CISA). CISA is responsible for protecting the Nation's critical infrastructure from physical and cyber threats. This mission requires effective coordination and collaboration from government and private sector organizations. As part of the collaboration efforts, CISA receives requests for CISA employees to give presentations and speeches at various events.

This digital collection of information is necessary to ensure an efficient and timely process to schedule outreach and engagement with CISA stakeholders. This information may be disclosed as generally permitted under 5 U.S.C. 522.

The Speaker Request Form will be the first point of contact between CISA and the public to initiate CISA speaking engagements. The form will be available on www.cisa.gov and any member of the public can submit a request for a CISA employee to speak at an event. The form will be used by CISA to track and manage external speaking engagements. The information will also be used to schedule and determine the most appropriate CISA speaker based on date, time, location, presentation format, and topic. The form collects information regarding the requested speaking engagement, e.g., the host organization, the speaking topic, agenda, and additional event details.

The requested information helps CISA determine whether the speaker should attend the engagement and/or how CISA should best prepare for the event. The information is used to determine if accepting the request will further CISA's mission.

The CISA Speakers Bureau team will use the information to identify a speaker and route the Speakers Request Form to that person for consideration. The form will be available on www.cisa.gov as a fillable pdf and/or webform and will be submitted to the CISA External Affairs Speakers Bureau. The data collected will be stored in an internal SharePoint site.

The CISA Speaker Request Form was previously approved by OMB on July 26, 2022, and is set to expire on July 31, 2025. This is an extension of an existing information collection.

Analysis

Agency: Cybersecurity and Infrastructure Security Agency (CISA), Department of Homeland Security (DHS).

Title: Speaker Request Form.

OMB Number: 1670-0047.

Frequency: Annually.

Affected Public: State, Local, Tribal and Territorial Governments, and Public Organizations.

Number of Respondents: 1,300.

Estimated Time per Respondent: 0.25 hours.

Total Burden Hours: 325 hours.

Total Annual Burden Cost: $14,813.60.

Total Government Burden Cost: $26,718.16.

Robert J. Costello,
Chief Information Officer, Department of Homeland Security, Cybersecurity and Infrastructure Security Agency.

[FR Doc. 2025-15861 Filed 8-19-25; 8:45 am]

BILLING CODE 9111-LF-P